DEPARTMENT OF TRANSPORTATION

Office of the Secretary of Transportation

49 CFR Part 1

[Docket No. OST-1999-6189]

RIN 2105-ZZ04

Organization and Delegation of Powers and Duties to the Under Secretary of Transportation for Security, Transportation Security Administration

AGENCY: Office of the Secretary, DOT.

ACTION: Final rule.

SUMMARY: A new operating administration, the Transportation Security Administration (TSA), headed by the Under Secretary of Transportation for Security, was established within the United States Department of Transportation (DOT) pursuant to the Aviation and Transportation Security Act [Public Law 107-71 (November 19, 2001)]. Accordingly, by this action, the Secretary of Transportation (Secretary) amends Part 1 of title 49, Code of Federal Regulations, to reflect this new DOT operating administration and its general responsibilities.

EFFECTIVE DATE: This Final Rule is effective on December 28, 2001.

FOR FURTHER INFORMATION CONTACT: Steven Cohen, Office of the General Counsel, Office of Environmental, Civil Rights, and General Law, Department of Transportation (C-10), 400 Seventh Street, SW., Room 10101, Washington, DC 20590, (202) 366-4684 (voice), (202) 366-9170 (fax) (202) 755-7687 (TDD).

SUPPLEMENTARY INFORMATION:

Electronic Access

An electronic copy of this document may be downloaded by using a computer, modem, and suitable communications software from the Government Printing Office's Electronic Bulletin Board Service at (202) 512-1661. Internet users may reach the Office of the Federal Register's home page at: http://www.nara.gov/fedreg and the Government Printing Office's database at: http://www.access.gpo.gov/nara. You can also view and download this document by going to the webpage of the Department's Docket Management System (http://dms.dot.gov/). On that page, click on “search.” On the next page, type in the four-digit docket number shown on the first page of this document. Then click on “search.”

Background

The Aviation and Transportation Security Act (ATSA) amends Chapter 1 of title 49, United States Code, by establishing TSA within DOT. TSA is headed by the Under Secretary of Transportation for Security. Accordingly, this rule amends Part 1 of title 49, Code of Federal Regulations, to reflect the establishment of TSA. Specifically, these amendments (1) Add the Under Secretary of Transportation for Security to the definition of “Administrator;” (2) add TSA to the list of operating elements within DOT that report directly to the Secretary; and (3) set forth TSA's general responsibilities.

This rule is being published as a final rule and made effective on the date signed by the Secretary of Transportation. As the rule relates to departmental organization, procedure, and practice, notice and comment on it are unnecessary under 5 U.S.C. 553(b). This action makes no substantive changes to transportation regulations. In addition, the functions addressed in this rule must be implemented immediately to facilitate the formation of TSA, as created by the Act. Therefore, prior notice and opportunity to comment are unnecessary, and good cause exists to dispense with the 30-day delay in the effective date requirement so that TSA may operate pursuant to the amendments noted above.

List of Subjects in 49 CFR Part 1

Authority delegations (Government agencies), Organization and functions (Government agencies).

Issued this 20th day of December 2001, at Washington, DC.
Norman Y. Mineta,
Secretary of Transportation.

In consideration of the foregoing, Part 1 of title 49, Code of Federal Regulations, is amended as follows:

PART 1—[AMENDED]

1. The authority citation for Part 1 is revised to read as follows:

Authority: 49 U.S.C. 322; 46 U.S.C. 2104(a); 28 U.S.C. 2672; 31 U.S.C. 3711(a)(2); Pub. L. 101-552, 104 Stat. 2736; Pub L. 106-159, 113 Stat. 1748; Pub. L. 107-71, 115 Stat. 597.

2. In § 1.2, new paragraph (1) is added to read as follows:

§ 1.2 Definitions.

* * * * *

(1) The Under Secretary of Transportation for Security.

3. In § 1.3, new paragraph (b)(12) is added to read as follows:

§ 1.3 Organization of the Department.

* * * * *

(b) * * *

(12) The Transportation Security Administration, headed by the Under Secretary of Transportation for Security.

4. In § 1.4, new paragraph (n) is added to read as follows:

§ 1.4 General responsibilities.

* * * * *

(n) The Transportation Security Administration. Is responsible for:

(1) Security relating to civil aviation and all other modes of transportation within the Department of Transportation, including at transportation facilities;

(2) Federal security screening operations for passenger air transportation and intrastate air transportation;

(3) Managing and carrying out program and regulatory activities, including administering laws and promulgating and enforcing security-related regulations and requirements in all modes of transportation, including at transportation facilities;

(4) Receiving, assessing, coordinating and distributing intelligence information related to transportation security;

(5) Developing, coordinating and carrying out plans to discover, prevent and deal with threats to transportation security;

(6) Identifying and undertaking research and development activities related to enhancing transportation security; and

(7) Coordinating domestic transportation, including aviation, rail, and other surface transportation, and maritime transportation (including port security) and overseeing all transportation related responsibilities of the Federal Government, other than the Department of Defense and the military departments, during a national emergency.

[FR Doc. 01-32021 Filed 12-21-01; 4:27 pm]

BILLING CODE 4910-62-M